NUCLEAR REGULATORY COMMISSION

Draft Regulatory Guide: Issuance, Availability

The U.S. Nuclear Regulatory Commission (NRC) has issued for public comment a draft of a new guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft Revision 2 of Regulatory Guide 8.7, entitled “Instructions for Recording and Reporting Occupational Radiation Dose Data,” is temporarily identified by its task number, DG-8029, which should be mentioned in all related correspondence. Like its predecessors, the proposed revision describes an acceptable program for the preparation, retention, and reporting of records of occupational radiation doses in accordance with Title 10, Part 20, of the Code of Federal Regulations (10 CFR Part 20), “Standards for Protection Against Radiation.” Section 20.1502 establishes “Conditions Requiring Individual Monitoring of External and Internal Occupational Dose.” Specifically, 10 CFR 20.1502 requires licensees to provide radiation monitoring for all occupationally exposed individuals who might receive a dose in excess of 10 percent of the limits defined in 10 CFR 20.1201 or 20 percent of the limits defined in 10 CFR 20.1207 or 20.1208. To augment that provision, 10 CFR 20.2106, “Records of Individual Monitoring Results,” requires licensees to maintain records of the radiation exposures of all individuals for whom personnel monitoring is required pursuant to 10 CFR 20.1502. Also, according to 10 CFR 20.2104, “Determination of Prior Occupational Dose,” licensees shall determine the dose in the current monitoring year for all persons who must be monitored, and attempt to obtain the records of cumulative occupational radiation dose. In addition, 10 CFR 20.2104(b) requires that, prior to permitting an individual to participate in a planned special exposure, licensees shall determine the internal and external doses from all previous planned special exposures, and record all previous doses in excess of the limits received during the lifetime of the individual. Licensees are required to maintain prior dose records on NRC Form 4 or its equivalent. Further, 10 CFR 20.2206, “Reports of Individual Monitoring,” requires certain licensees to submit to the NRC an annual report of the results of individual monitoring. Licensees are required to record these annual reports on NRC Form 5 or its equivalent.

The NRC is issuing this proposed revision to make the guide consistent with a recent change to 10 CFR 20.2206, which allows electronic submittal of licensees' annual occupational radiation dose data via the NRC's Radiation Exposure Information and Reporting System (REIRS) for Radiation Workers (a secure Web site) at http://www.reirs.com. Other changes include updating NRC Forms 4 and 5, and clarifying and improving the guide to reflect licensees' input and experience since the NRC issued Revision 1 of Regulatory Guide 8.7 in 1992.

The NRC staff is soliciting comments on Draft Regulatory Guide DG-8029, and comments may be accompanied by relevant information or supporting data. Please mention DG-8029 in the subject line of your comments. Comments on this draft regulatory guide submitted in writing or in electronic form will be made available to the public in their entirety through the NRC's Agencywide Documents Access and Management System (ADAMS). Personal information will not be removed from your comments. You may submit comments by any of the following methods.

Mail comments to: Rules and Directives Branch, Office of Administration, U.S. Nuclear Regulatory Commission, Washington, DC 20555-0001.

E-mail comments to: NRCREP@nrc.gov. You may also submit comments via the NRC's rulemaking Web site at http://ruleforum.llnl.gov. Address questions about our rulemaking Web site to Carol A. Gallagher (301) 415-5905; e-mail CAG@nrc.gov.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Draft Regulatory Guide DG-8029 may be directed to Sheryl A. Burrows at (301) 415-6086 or by e-mail to SAB2@nrc.gov.

Comments would be most helpful if received by July 12, 2005. Comments received after that date will be considered if it is practical to do so, but the NRC is able to ensure consideration only for comments received on or before this date. Although a time limit is given, comments and suggestions in connection with items for inclusion in guides currently being developed or improvements in all published guides are encouraged at any time.

Electronic copies of the draft regulatory guide are available through the NRC's public Web site under Draft Regulatory Guides in the Regulatory Guides document collection of the NRC's Electronic Reading Room at http://www.nrc.gov/reading-rm/doc-collections/. Electronic copies are also available in the NRC's Agencywide Documents Access and Management System (ADAMS) at http://www.nrc.gov/reading-rm/adams.html, under Accession #ML051120144. Note, however, that the NRC has temporarily limited public access to ADAMS so that the agency can complete security reviews of publicly available documents and remove potentially sensitive information. Please check the NRC's Web site for updates concerning the resumption of public access to ADAMS.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by email to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(5 U.S.C. 552(a))

Dated at Rockville, Maryland, this 9th day of May, 2005.
For the U.S. Nuclear Regulatory Commission.
Farouk Eltawila,
Director, Division of Systems Analysis and Regulatory Effectiveness Office of Nuclear Regulatory Research.

[FR Doc. E5-2415 Filed 5-13-05; 8:45 am]

BILLING CODE 7590-01-P